DEPARTMENT OF THE INTERIOR

National Park Service

National Register of Historic Places; Notification of Pending Nominations and Related Actions

Nominations for the following properties being considered for listing or related actions in the National Register were received by the National Park Service before February 4, 2006. Pursuant to section 60.13 of 36 CFR Part 60 written comments concerning the significance of these properties under the National Register criteria for evaluation may be forwarded by United States Postal Service, to the National Register of Historic Places, National Park Service, 1849 C St. NW, 2280, Washington, DC 20240; by all other carriers, National Register of Historic Places, National Park Service, 1201 Eye St. NW, 8th floor, Washington DC 20005; or by fax, 202-371-6447. Written or faxed comments should be submitted by March 4, 2006.

John W. Roberts,
Acting Chief, National Register/National Historic Landmarks Program.

GEORGIA

DeKalb County

Decature Waterworks, 1400 McConnell Dr., Mason Mill Park, Decatur, 06000123

Taliaferro County

Crawfordville Historic District, Roughly centered on the downtown business district of Crawfordville, Taliaferro, 06000124

IDAHO

Bannock County

Lincoln—Johnson Avenues Residential Historic District, Roughly bounded by W. Hayden St., the Portnsuf R, W. Benton St. and the West Bench, Pocatello, 06000126

INDIANA

Allen County

U.S. Post Office and Courthouse, 1300 W. Harrison St., Fort Wayne, 06000125

MASSACHUSETTS

Norfolk County

Prospect Hill Cemetery, Auburn Rd., Millis, 06000129

Plymouth County

Bradford House, 50 Landing Rd., Kingston, 06000128

Suffolk County

East Boston High School, Old, 127 Marion St., Boston, 06000127

Worcester County

Princeton Center Historic District (Boundary Increase), Address Restricted, Princeton, 06000130

MICHIGAN

Alpena County

Middle Island Light, (Light Stations of the United States MPS) E of shoreline of Middle Island, 3.2 mi. SE of Rockport, Alpena, 06000133

NEW HAMPSHIRE

Coos County

Waumbek Cottages Historic District, 13, 18, 25, 36 Cottage Rd.; 14, 38 Starr King Rd., Jefferson, 06000142

Merrimack County

Contoocook Railroad Depot, 868 Main St., Hopkinton, 06000131

TENNESSEE

Anderson County

Cross Mountain Miners' Circle, Circle Cemetery Ln., Briceville, 06000134 Hawkins County

St. Marks Presbyterian Church, (Rural African-American Churches in Tennessee MPS) Jct. of N. Hassen and W. Kyle Sts., Rogersville, 06000132

VERMONT

Rutland County

Fort Vengeance Monument Site, US 7, 0.57 mi. S of town line, Pittsford, 06000139

Windham County

Whitingham Village Historic District, VT 100, School St., Brook St., and Stimpson Hill Rd., Whitingham, 06000140

VIRGINIA

Gloucester County

Werowocomoco Archeological Site, 3051 Ginny Hill Rd., Gloucester, 06000138

Norfolk Independent city Queen Street Baptist Church, 413 Brambleton Ave., Norfolk (Independent City), 06000141

WASHINGTON

Clark County

Farrell Building, 305 NE 4th Ave., Camas, 06000135

Lincoln County

Almira Hotel, 3 N. Third Ave., Almira, 06000137

Spokane County

Wilbur, Ralston and Sarah, House, 2525 E. 19th Ave., Spokane, 06000136

[FR Doc. E6-2311 Filed 2-16-06; 8:45 am]

BILLING CODE 4312-51-P